DEPARTMENT OF STATE

[Public Notice: 10108]

Determination Pursuant to Section 7041(a)(3)(B) of the Department of State, Foreign Operations, and Related Programs Appropriations Act, 2016

Pursuant to the Authority vested in me as Secretary of State by section 7041(a)(3)(B) of the Department of State, Foreign Operations, and Related Programs Appropriations Act, 2016 (Div. K, Pub. L. 114-113) (“the Act”), I hereby determine that it is important to the national security interest of the United States to waive the certification requirement in section 7041(a)(3)(A) of the Act. I hereby waive that requirement.

This determination shall be reported to Congress, along with the accompanying Memorandum of Justification, and published in the Federal Register.

Dated: August 22, 2017.
Rex W. Tillerson,
Secretary of State.

[FR Doc. 2017-18395 Filed 8-29-17; 8:45 am]

BILLING CODE 4710-31-P